ENVIRONMENTAL PROTECTION AGENCY

[OARM-2004-0001; FRI-7844-5]

Agency Information Collection Activities; Submission to OMB for Review and Approval; Comment Request; General Administrative Requirements for Assistance Programs: EPA Administrative Capability Questionnaire, EPA ICR Number 0938.10, OMB Control Number 2030-0020

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request for a new collection.

DATES: Additional comments may be submitted on or before January 3, 2005.

ADDRESSES: Submit your comments, referencing docket ID number OARM-2004-0001, to (1) EPA online using EDOCKET (our preferred method), by e-mail to oei.docket@epa.gov, or by mail to: EPA Docket Center, Environmental Protection Agency, Office of Environmental Information—Mail Code-28221T, 1200 Pennsylvania Avenue, NW., Washington, DC 20460, and (2) OMB at: Office of Information and Regulatory Affairs, Office of Management and Budget (OMB), Attention: Desk Officer for EPA, 725 17th Street, NW., Washington, DC 20503.

FOR FURTHER INFORMATION CONTACT: Marguerite Pridgen, Office of Grants and Debarment—Mail Code 3903-R, Environmental Protection Agency, 1200 Pennsylvania Avenue, NW., Washington, DC 20460; telephone number: (202) 564-5308; fax number: (202) 565-2470; e-mail address: pridgen.marguerite@epa.gov.

SUPPLEMENTARY INFORMATION: EPA has submitted the following ICR to OMB for review and approval according to the procedures prescribed in 5 CFR 1320.12. On August 19, 2004 (69 FR 51462), EPA sought comments on this ICR pursuant to 5 CFR 1320.8(d). EPA received no comments.

EPA has established a public docket for this ICR under Docket ID No. OARM-2004-0001, which is available for public viewing at the Office of Environmental Information Docket in the EPA Docket Center (EPA/DC), EPA West, Room B102, 1301 Constitution Avenue, NW., Washington, DC. The EPA Docket Center Public Reading Room is open from 8:30 a.m. to 4:30 p.m., Monday through Friday, excluding legal holidays. The telephone number for the Reading Room is (202) 566-1744, and the telephone number for the Office of Environmental Information Docket is (202) 566-1752. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: General Administrative Requirements For Assistance Programs: EPA Administrative Capability Questionnaire.

Abstract: The Environmental Protection Agency (EPA) is establishing procedures for assessing administrative capability of non-profit organizations applying for EPA grants. Under the new procedures, EPA will require certain non-profit applicants to complete a checklist entitled “EPA Administrative Capability Questionnaire” and return it to EPA with supporting documentation. The responses to the form will be a basis for assessing administrative capability and deciding whether to award grants to the non-profit applicant. Applicants that provide information that demonstrates they are administratively capable will be “certified” for the next four years, and therefore, would not have to resubmit the questionnaire and supporting documents in the next four years unless administrative management issues arise before the certification period has ended. Note: One potentially significant revision since the publication of the first Federal Register notice has been the inclusion of an additional (optional) data element. This data element “CPA CERTIFICATION (OPTIONAL),” at the end of the questionnaire, allows the applicant to further demonstrate that the recipient has established fiscal controls and accounting procedures which assure that project funds are distributed and accounted for properly.

In applying for a non-construction, discretionary grant from EPA, each applicant is currently required to complete and submit Standard Form (SF) series forms SF424, SF424A, and SF424B. By signing the SF424B, “Assurances—Non-Construction Programs”, the applicant is assuring compliance with various statutory and regulatory requirements (40 CFR part 30—Grants and Agreements with Institutions of Higher Education, Hospitals, and other Non-Profit Organizations) and is assuring that it “[h]as the legal authority to apply for Federal assistance and the institutional, managerial and financial capability (including funds sufficient to pay the non Federal share of project cost) to ensure proper planning, management and completion of the project described in this application”. Despite this assurance, EPA's Office of the Inspector General and Office of Grants and Debarment within EPA's Office of Administration and Resources Management have documented numerous instances of non-profit recipients that have inadequate administrative systems to manage EPA funds or lack the capability to successfully perform the project scope of work.

Recognizing that it is preferable to address such issues before, rather than after a grant is awarded, EPA is prescribing uniform pre-award procedures for evaluating the administrative and programmatic capability of non-profit applicants. As part of these procedures, EPA will require that non-profit applicants seeking funding for a new award in excess of $200,000 complete a checklist entitled “EPA Administrative Capability Questionnaire” and return it to the designated EPA office with supporting documentation. In limited cases EPA may also require non-profit applicants seeking new awards below this threshold to complete the same questionnaire, where the Agency learns that significant weakness/deficiencies may be present that could compromise a non-profit's administrative capability. Note that much of the information to be collected in the proposed questionnaire is currently being collected from grant recipients during EPA's post-award monitoring activities (ref.: OMB 2030—0020, Expiration date 12/31/05). The information to be collected also directly relates to the administrative management systems which recipients are required to establish under 40 CFR part 30.

For purposes of this Notice, EPA uses the term “administrative capability” interchangeably with the term “managerial and financial capability”. The term “administrative capability” means the capability of an applicant or recipient to develop and implement administrative systems required by 40 CFR part 30, including systems related to financial management, property management, procurement standards and financial reporting and recordkeeping. For purposes of this Notice, EPA uses the term “programmatic capability” interchangeably with the term “institutional capability”. The term “programmatic capability” means the technical capability of an applicant or recipient to successfully carry out a project, taking into account factors such as past performance on similar projects, prior experience, timely progress reporting, the qualifications of key personnel and allocation of roles and responsibilities for proper project management, and the adequacy of equipment, resources and facilities.

An agency may not conduct or sponsor, and a person is not required to respond to, a collection of information unless it displays a currently valid OMB control number. The OMB control numbers for EPA's regulations in 40 CFR are listed in 40 CFR part 9 and are identified on the form and/or instrument, if applicable.

Burden Statement: The annual public reporting and recordkeeping burden for this collection of information is estimated to average 4.0 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: EPA non-profit applicants recommended for new assistance awards of greater than $200,000.

Estimated Number of Respondents: 100.

Frequency of Response: Once every four years.

Estimated Total Annual Hour Burden: 400.

Estimated Total Annual Cost: $16,875, includes $0 annualized capital or O&M costs.

Changes in the Estimates: There is a increase of 400 hours in the total estimated burden currently identified in the OMB Inventory of Approved ICR Burdens. This increase is due to the addition of a new Data Collection Instrument (protocol) to the others already utilized in EPA's “General Administrative Requirements For Assistance Programs”—OMB Control Number 2030-0020 (Expiration Date: 12/31/2005). This new protocol is necessary to maintain and enhance EPA's Federal stewardship responsibilities.

Dated: November 14, 2004.
Oscar Morales,
Director, Collection Strategies Division.

[FR Doc. 04-26559 Filed 12-1-04; 8:45 am]

BILLING CODE 6560-50-M